JUDICIAL CONFERENCE OF THE UNITED STATES

Meeting of the Judicial Conference Advisory Committee on Rules of Evidence

AGENCY: Advisory Committee on Rules of Evidence, Judicial Conference of the United States.

ACTION: Notice of open meeting.

SUMMARY: The Advisory Committee on Rules of Evidence will hold a meeting on October 21, 2016. The meeting will be open to public observation but not participation.

DATES: October 21, 2016.

TIME: 8:30 a.m.-3:00 p.m.

ADDRESSES: Pepperdine University School of Law, 24255 Pacific Coast Highway, Malibu, CA 90263.

FOR FURTHER INFORMATION CONTACT: Rebecca A. Womeldorf, Rules Committee Secretary, Rules Committee Support Office, Administrative Office of the United States Courts, Washington, DC 20544, telephone (202) 502-1820.

Dated: September 6, 2016.
Rebecca A. Womeldorf,
Rules Committee Secretary.

[FR Doc. 2016-21780 Filed 9-9-16; 8:45 am]

BILLING CODE 2210-55-P